DEPARTMENT OF ENERGY

Federal Energy Regulatory Commission

Combined Notice of Filings #1

Take notice that the Commission received the following electric corporate filings:

Docket Numbers: EC19-27-001.

Applicants: IIF US Holding LP.

Description: Informational Report of IIF US Holding LP, on behalf of its Public Utility Subsidiaries, et al.

Filed Date: 2/22/19.

Accession Number: 20190222-5103.

Comments Due: 5 p.m. ET 3/15/19.

Take notice that the Commission received the following electric rate filings:

Docket Numbers: ER18-1267-005.

Applicants: GridLiance High Plains LLC.

Description: Compliance filing: GridLiance High Plains LLC Clean-up Tariff Revisions ER18-1267 to be effective 3/31/2018.

Filed Date: 2/26/19.

Accession Number: 20190226-5134.

Comments Due: 5 p.m. ET 3/19/19.

Docket Numbers: ER19-605-001.

Applicants: Republic Transmission, LLC.

Description: Tariff Amendment: Republic Transmission, LLC Deficiency Filing ER19-605-000 to be effective 2/26/2019.

Filed Date: 2/26/19.

Accession Number: 20190226-5110.

Comments Due: 5 p.m. ET 3/19/19.

Docket Numbers: ER19-1124-000.

Applicants: Midcontinent Independent System Operator, Inc.

Description: § 205(d) Rate Filing: 2019-02-25_Revisions to Att. FF and FF-7 to Expand and Clarify Cost Allocation to be effective 6/25/2019.

Filed Date: 2/25/19.

Accession Number: 20190225-5172.

Comments Due: 5 p.m. ET 3/18/19.

Docket Numbers: ER19-1125-000.

Applicants: Midcontinent Independent System Operator, Inc.

Description: § 205(d) Rate Filing: 2019-02-25_Revisions to the TOA to Expand and Clarify Cost Allocation to be effective 6/25/2019.

Filed Date: 2/25/19.

Accession Number: 20190225-5173.

Comments Due: 5 p.m. ET 3/18/19.

Docket Numbers: ER19-1127-000.

Applicants: Calpine King City Cogen, LLC.

Description: Baseline eTariff Filing: Application for MBR Authorization and Request for Waivers and Blanket Approvals to be effective 4/1/2019.

Filed Date: 2/26/19.

Accession Number: 20190226-5063.

Comments Due: 5 p.m. ET 3/19/19.

Docket Numbers: ER19-1128-000.

Applicants: Rush Springs Energy Storage, LLC.

Description: Baseline eTariff Filing: Rush Springs Energy Storage, LLC Application for Market-Based Rates to be effective 5/1/2019.

Filed Date: 2/26/19.

Accession Number: 20190226-5132.

Comments Due: 5 p.m. ET 3/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2019.
Nathaniel J. Davis, Sr.,
Deputy Secretary.

[FR Doc. 2019-03756 Filed 3-1-19; 8:45 am]

BILLING CODE 6717-01-P